DEPARTMENT OF EDUCATION

[CFDA No. 84.295A]

Office of Educational Research and Improvement (OERI); Ready-To-Learn (RTL) Television Program

Notice of selection criteria and extension of deadline for transmittal of applications for a new award for fiscal year (FY) 2000.

SUMMARY: On May 3, 2000, we published in the Federal Register (65 FR 25815-25817) a notice inviting applications for a new award for FY 2000 for the RTL Television Program. This notice explains the Selection Criteria that the Secretary will use to evaluate your application.

Note: This notice also extends the deadline for transmittal of applications as follows:

Deadline for Transmittal of Applications: June 26, 2000.

Selection Criteria: The Secretary uses the following selection criteria in 34 CFR 700.30 to evaluate applications for new grants under this competition.

The maximum score for all of these criteria is 100 points.

The maximum score for each criterion is indicated in parentheses.

(a) National significance (30 points). The Secretary considers the national significance of the proposed project. In determining the national significance of the proposed project, the Secretary considers the following factors:

(1) The importance of the problem or issue to be addressed.

(2) The nature of the products (such as information, materials, processes, or techniques) likely to result from the project and the potential for their effective use in a variety of other settings.

(3) The extent and quality of plans for disseminating results in ways that will allow others to use the information.

(b) Quality of the project design (30 points). The Secretary considers the quality of the design of the proposed project. In determining the quality of the design of the proposed project, the Secretary considers the following factors:

(1) The extent to which the research design includes a thorough, high-quality review of the relevant literature, a high-quality plan for research activities, and the use of appropriate theoretical and methodological tools, including those of a variety of disciplines, where appropriate.

(2) The quality of the plan for evaluating the functioning and impact of the project, including the objectivity of the evaluation and the extent to which the methods of evaluation are appropriate to the goals, objectives, and outcomes of the project.

(3) The quality of the demonstration design and procedures for documenting project activities and results.

(4) The likelihood that the design of the project will successfully address the intended, demonstrated educational need or needs.

(5) How well and innovatively the project addresses statutory purposes, requirements, and any priority or priorities announced for the program.

(c) Quality and potential contributions of personnel (10 points). The Secretary considers the quality and potential contributions of personnel for the proposed project. In determining the quality and potential contributions of personnel for the proposed project, the Secretary considers the following factors:

(1) The qualifications, including training and experience, of the project director or principal investigator.

(2) The qualifications, including training and experience, of key project personnel.

(3) The qualifications, including training and experience, of proposed consultants or subcontractors.

(d) Adequacy of resources (10 points). The Secretary considers the adequacy of resources for the proposed project. In determining the adequacy of resources for the proposed project, the Secretary considers the following factors:

(1) The adequacy of support from the lead applicant organization.

(2) The relevance and commitment of each partner in the project to the implementation and success of the project.

(3) Whether the budget is adequate to support the project.

(e) Quality of the management plan (20 points). The Secretary considers the quality of the management plan of the proposed project. In determining the quality of the management plan of the proposed project, the Secretary considers the following factors:

(1) The adequacy of the management plan to achieve the objectives of the project, including the specification of staff responsibility, timelines, and benchmarks for accomplishing project tasks.

(2) The adequacy of plans for ensuring high-quality products and services.

(3) The adequacy of plans for ensuring continuous improvement in the operation of the project.

(4) How the applicant will ensure that a diversity of perspectives are brought to bear in the operation of the project, including those of parents and teachers, where appropriate.

FOR FURTHER INFORMATION CONTACT: Joe Caliguro, U.S. Department of Education, 555 New Jersey Avenue, NW., room 604-I, Washington, DC 20202-5520. Telephone: (202) 219-1596. If you use a telecommunications device for the deaf (TDD), you may call the Federal Information Relay Service (FIRS) at 1-800-877-8339.

Individuals with disabilities may obtain this document in an alternative format (e.g., Braille, large print, audiotape, or computer diskette) on request to the program contact person listed in the previous paragraph.

Electronic Access to This Document

You may view this document, as well as all other Department of Education documents published in the Federal Register, in text or Adobe Portable Document Format (PDF) on the Internet at either of the following sites:

http://ocfo.ed.gov/fedreg.htm

http://www.ed.gov/news.html

To use the PDF you must have the Adobe Acrobat Reader, which is available free at either of the previous sites. If you have questions about using the PDF, call the U.S. Government Printing Office (GPO), toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 6921-6928.

Dated: May 23, 2000.
C. Kent McGuire,
Assistant Secretary for Educational Research and Improvement.

[FR Doc. 00-13302 Filed 5-25-00; 8:45 am]

BILLING CODE 4000-01-P